DEPARTMENT OF COMMERCE

International Trade Administration

[A-475-836, A-580-891, A-469-816, A-489-831, A-412-826]

Carbon and Alloy Steel Wire Rod From Italy, the Republic of Korea, Spain, the Republic of Turkey, and the United Kingdom: Antidumping Duty Orders and Amended Final Affirmative Antidumping Duty Determinations for Spain and the Republic of Turkey

AGENCY: Enforcement and Compliance, International Trade Administration, Department of Commerce.

SUMMARY: Based on affirmative final determinations by the Department of Commerce (Commerce) and the International Trade Commission (ITC), Commerce is issuing antidumping duty orders on carbon and alloy steel wire rod (wire rod) from Italy, the Republic of Korea (Korea), Spain, the Republic of Turkey (Turkey), and the United Kingdom. In addition, Commerce is amending its affirmative final determinations for Spain and Turkey to correct ministerial errors.

DATES: Applicable May 21, 2018.

FOR FURTHER INFORMATION CONTACT: Mark Flessner at (202) 482-6312 (Italy), Lingjun Wang at (202) 482-2316 (Korea), Chelsey Simonovich or Davina Friedmann at (202) 482-1979 or (202) 482-0698 (Spain), Ryan Mullen or Ian Hamilton at (202) 482-5260 and (202) 482-4798, respectively (Turkey), and Alice Maldonado at (202) 482-4682 (United Kingdom), AD/CVD Operations, Enforcement and Compliance, International Trade Administration, Department of Commerce, 1401 Constitution Avenue NW, Washington, DC 20230.

SUPPLEMENTARY INFORMATION:

Background

In accordance with sections 735(a), 735(d) and 777(i)(1) of the Tariff Act of 1930, as amended (Act), and 19 CFR 351.210(c), on March 28, 2018, Commerce published its affirmative final determinations in the less-than-fair-value (LTFV) investigations of wire rod from Italy, Korea, Spain, Turkey, and the United Kingdom.¹

¹ See Carbon and Alloy Steel Wire Rod From Italy: Final Determination of Sales at Less Than Fair Value, 83 FR 13230 (March 28, 2018); Carbon and Alloy Steel Wire Rod From the Republic of Korea: Final Affirmative Determination of Sales at Less Than Fair Value and Final Negative Determination of Critical Circumstances, 83 FR 13228 (March 28, 2018) and the accompanying Issues and Decision Memorandum; Carbon and Alloy Steel Wire Rod From Spain: Final Determination of Sales at Less Than Fair Value, and Final Determination of Critical Circumstances, in Part, 83 FR 13233 (March 28, 2018) (Spain Final Determination) and the accompanying Issues and Decision Memorandum; Carbon and Alloy Steel Wire Rod from Turkey: Final Determination of Sales at Less Than Fair Value and Final Negative Determination of Critical Circumstances, 83 FR 13249 (March 28, 2018) (Turkey Final Determination) and the accompanying Issues and Decision Memorandum; Carbon and Alloy Steel Wire Rod from the United Kingdom: Final Affirmative Determination of Sales at Less Than Fair Value and Final Affirmative Determination of Critical Circumstances, 83 FR 13252 (March 28, 2018) and the accompanying Issues and Decision Memorandum.

On March 27, 2018, Nucor Corporation, a petitioner in these investigations (the petitioner), alleged that Commerce made a ministerial error in the Turkey Final Determination with regard to programming language identifying the U.S. date of sale for respondent Habas Sinai ve Tibbi Gazlar Istihsal Endustrisi A.S. (Habas).² On April 13, 2018, Commerce issued a ministerial error memorandum agreeing that it made a ministerial error, but found that revisions to the programming language had no impact on the final margin for Habas.³ On April 17, 2018, the petitioner commented on Commerce's ministerial error memorandum and alleged that Commerce misplaced the revised programming language used to correct Habas' U.S. date of sale, which incorrectly resulted in no change to the calculated margin.⁴ Habas did not comment on either allegation.

² See Petitioner's Letter, “Carbon and Alloy Steel Wire Rod From the Republic of Turkey: Ministerial Error Allegation,” dated March 27, 2018.

³ See Memorandum, “Antidumping Duty Investigation of Carbon and Alloy Steel Wire Rod From Turkey: Allegation of Ministerial Error in the Final Determination,” dated April 13, 2018.

⁴ See Petitioner's Letter, “Carbon and Alloy Steel Wire Rod from the Republic of Turkey: Comments on the Department's Ministerial Error Memorandum,” dated April 17, 2018.

On April 3, 2018, Global Steel Wire S.A., CELSA Atlantic S.A., and Companía Española de Laminación (collectively, CELSA) alleged that Commerce made ministerial errors by mischaracterizing the destination codes in the final margin program in the Spain Final Determination. Additionally, CELSA alleges that Commerce failed to deduct all applicable U.S. constructed export price (CEP) expenses in the margin calculation program.⁵

⁵ See CELSA's Letter, “Antidumping Duty Investigation of Carbon and Alloy Steel Wire Rod From Spain: Ministerial Errors Contained in the Final Determination,” dated April 3, 2018.

On May 11, 2018, the ITC notified Commerce of its affirmative final determinations that an industry in the United States is materially injured within the meaning of section 705(b)(1)(A)(i) and 705(d) of the Act, by reason of LTFV imports of subject merchandise from Italy, Korea, Spain, Turkey, and the United Kingdom, and its determinations that critical circumstances do not exist with respect to imports of wire rod from Spain and the United Kingdom that are subject to Commerce's affirmative critical circumstances findings.⁶

⁶ See Letter from the ITC to the Honorable Gary Taverman, May 11, 2018 (Notification of ITC Final Determinations); see also Carbon and Certain Alloy Steel Wire Rod From Italy, Korea, Spain, Turkey, and the United Kingdom, Investigation Nos. 701-TA-573-574 and 731-TA-1350, 1351, 1354, 1355, and 1358 (Final) (May 2018).

Scope of the Orders

The product covered by these orders is wire rod from Italy, Korea, Spain, Turkey, and the United Kingdom. For a complete description of the scope of the orders, see the Appendix to this notice.

Amendments to Final Determinations

With respect to the Turkey Final Determination, Commerce reviewed the record and agrees that the error identified by the petitioner with respect to the placement of the revised programming language constitutes a ministerial error within the meaning of section 735(e) of the Act and 19 CFR 351.224(f).⁷ Therefore, pursuant to 19 CFR 351.224(e), Commerce is amending the Turkey Final Determination to reflect the correction of this ministerial error in the calculation of the final margin assigned to Habas, which changes from 4.74 percent to 4.93 percent.⁸ In addition, because the “all-others” rate is based on the margins for Habas and the other mandatory respondent, Icdas Celik Enerji Tersane ve Ulasim Sanayi A.S. (Icdas),⁹ we are revising the “all-others” rate, which changes from 6.34 percent ad valorem to 6.44 percent ad valorem, consistent with section 735(c)(5)(A) of the Act, as stated in the Turkey Final Determination.¹⁰

⁷ See Memorandum, “Antidumping Duty Investigation of Carbon and Alloy Steel Wire Rod From Turkey: Allegation of Ministerial Error Memorandum for the Amended Final Determination,” dated May 16, 2018.

⁸ Id. at 3-4.

⁹ Icdas' final margin remains unchanged; see Turkey Final Determination, 83 FR at 13250.

¹⁰ See Memorandum, “Antidumping Duty Investigation of Carbon and Alloy Steel Wire Rod From Turkey: Calculation of All-Others' Rate in Amended Final Determination,” dated May 16, 2018.

With respect to the Spain Final Determination, Commerce reviewed the record and agrees that the errors identified by CELSA constitute ministerial errors within the meaning of section 735(e) of the Act and 19 CFR 351.224(f) and that it unintentionally incorrectly defined CELSA's U.S. destination codes in the final margin calculation program.¹¹ Commerce also finds that it unintentionally failed to deduct one of CELSA's CEP expenses in the final margin calculation program.¹²

¹¹ See Memorandum, “Antidumping Duty Investigation of Carbon and Alloy Steel Wire Rod From Spain: Ministerial Error Memorandum,” dated May 15, 2018.

¹² Id.

Therefore, pursuant to 19 CFR 351.224(e), Commerce is amending the Spain Final Determination to reflect the correction of ministerial errors made in the margin calculation for CELSA, which changes the final margin from 11.08 percent to 10.11 percent. In addition, because the “all-others” rate in the Spain Final Determination was based on the estimated weighted-average dumping margin calculated for CELSA,¹³ Commerce, consistent with section 735(c)(5)(A) of the Act, is also amending the “all-others” rate, which changes from 11.08 percent ad valorem to 10.11 percent ad valorem, as stated in the Spain Final Determination.

¹³ See Spain Final Determination.

Antidumping Duty Orders

In accordance with sections 735(b)(1)(A)(i) and 735(d) of the Act, the ITC notified Commerce of its final determinations in these investigations, in which it found that an industry in the United States is materially injured by reason of imports of wire rod from Italy, Korea, Spain, Turkey, and the United Kingdom.¹⁴ Therefore, in accordance with section 735(c)(2) of the Act, we are issuing these antidumping duty orders. Because the ITC determined that imports of wire rod from Italy, Korea, Spain, Turkey, and the United Kingdom are materially injuring a U.S. industry, unliquidated entries of such merchandise from Italy, Korea, Spain, Turkey, and the United Kingdom, entered or withdrawn from warehouse for consumption, are subject to the assessment of antidumping duties.

¹⁴ See Notification of ITC Final Determinations.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of wire rod from Italy, Korea, Spain, Turkey, and the United Kingdom. Antidumping duties will be assessed on unliquidated entries of wire rod from Italy, Korea, Spain, Turkey, and the United Kingdom entered, or withdrawn from warehouse, for consumption on or after October 31, 2017, the date of publication of the Preliminary Determinations.¹⁵

¹⁵ See Carbon and Alloy Steel Wire Rod from Italy: Preliminary Affirmative Determination of Sales at Less Than Fair Value, 82 FR 50381 (October 31, 2017); Carbon and Alloy Steel Wire Rod from the Republic of Korea: Preliminary Affirmative Determination of Sales at Less Than Fair Value, and Preliminary Negative Determination of Critical Circumstances, 82 FR 50386 (October 31, 2017); Carbon and Alloy Steel Wire Rod from Spain: Preliminary Affirmative Determination of Sales at Less Than Fair Value and Preliminary Determination of Critical Circumstances, in Part, 82 FR 50389 (October 31, 2017); Carbon and Alloy Steel Wire Rod from Turkey: Preliminary Affirmative Determination of Sales at Less Than Fair Value, and Preliminary Negative Determination of Critical Circumstances, 82 FR 50377 (October 31, 2017); Carbon and Alloy Steel Wire Rod from the United Kingdom: Preliminary Affirmative Determination of Sales at Less Than Fair Value, and Preliminary Affirmative Determination of Critical Circumstances, 82 FR 50394 (October 31, 2017) (collectively, Preliminary Determinations).

Estimated Weighted-Average Dumping Margins

The estimated weighted-average antidumping duty margin percentages and cash deposit rates are as follows:

Exporter/producer | Weighted-average dumping margins
Italy: |
Ferriere Nord S.p.A./Acciaierie di Verona S.p.A¹⁶ | 12.41
Ferriera Valsider S.p.A | 18.89
All-Others | 12.41
Korea: |
POSCO | 41.10
All-Others | 41.10
Spain: |
Global Steel Wire S.A./CELSA Atlantic S.A./Companía Española de Laminación | 10.11
ArcelorMittal Espana S.A | 32.64
All-Others | 10.11
| Weighted-average dumping margins (percent) | Cash-deposit rate (adjusted for export subsidies) (percent)
Turkey:
Habas Sinai ve Tibbi Gazlar Istihsal Endustrisi A.S | 4.93 | 1.05
Icdas Celik Enerji Tersane ve Ulasim Sanayi A.S | 7.94 | 4.15
All-Others | 6.44 | 2.59
| Weighted-average dumping margins
United Kingdom: |
British Steel Limited | 147.63
Longs Steel UK Limited | 147.63
All-Others | 147.63

Continuation of Suspension of Liquidation

¹⁶ Ferriere Nord S.p.A. and Acciaierie di Verona S.p.A. were treated as a single entity for the final determination.

In accordance with section 735(c)(1)(B) of the Act, Commerce will instruct CBP to continue to suspend liquidation of all relevant entries of wire rod from Italy, Korea, Spain, Turkey, and the United Kingdom, effective the date of publication of the ITC's notice of final determinations in the Federal Register. These instructions suspending liquidation will remain in effect until further notice.

Commerce will also instruct CBP to require cash deposits equal to the amounts as indicated below, which are adjusted for certain countervailable export subsidies, where appropriate. Accordingly, effective on the date of publication of the ITC's final affirmative injury determinations in the Federal Register, CBP will require, at the same time as importers would normally deposit estimated duties on the subject merchandise, a cash deposit equal to the weighted-average dumping margins, adjusted for countervailable export subsidies, where appropriate, listed below.¹⁷ The relevant “all-others” rates apply to all producers or exporters not specifically listed below.

¹⁷ See section 736(a)(3) of the Act.

Provisional Measures

Section 733(d) of the Act states that the suspension of liquidation pursuant to an affirmative preliminary determination may not remain in effect for more than four months, except where exporters representing a significant proportion of exports of the subject merchandise request that Commerce extend the four-month period to no more than six months. At the request of exporters that account for a significant proportion of wire rod from Italy, Korea, Spain, Turkey, and the United Kingdom, Commerce extended the four-month period to six months in each case.¹⁸ Commerce published the Preliminary Determinations for all five underlying investigations on October 31, 2017. Therefore, the extended period, beginning on the date of publication of the Preliminary Determinations, ended on April 28, 2018. Furthermore, section 737(b) of the Act states that the collection of final, estimated cash deposits will begin on the date of publication of the ITC's final injury determinations.

¹⁸ See Carbon and Alloy Steel Wire Rod from Italy, the Republic of Korea, Spain, Turkey, and the United Kingdom: Postponement of Final Determinations of Less-Than-Fair-Value Investigation and Extension of Provisional Measures, 82 FR 51613 (November 7, 2017).

Therefore, in accordance with section 733(d) of the Act and our practice, Commerce will instruct CBP to terminate the suspension of liquidation and to liquidate, without regard to antidumping duties, unliquidated entries of wire rod from Italy, Korea, Spain, Turkey, and the United Kingdom entered, or withdrawn from warehouse, for consumption after April 28, 2018, the final day on which the provisional measures were in effect in these proceedings, until and through the day preceding the date of publication of the ITC's final injury determinations in the Federal Register. Suspension of liquidation will resume on the date of publication of the ITC's final determinations in the Federal Register.

Critical Circumstances

The ITC notified Commerce of its determinations that critical circumstances do not exist with respect to imports of wire rod from Spain and the United Kingdom subject to Commerce's critical circumstances finding.¹⁹ With regard to the ITC's negative critical circumstances determinations on imports of subject merchandise from Spain and the United Kingdom, Commerce will instruct CBP to lift suspension and to refund any cash deposits made to secure the payment of estimated antidumping duties with respect to entries of subject merchandise entered, or withdrawn from warehouse, for consumption on or after August 2, 2017 (i.e., 90 days prior to the date of publication of the Preliminary Determinations), but before October 31, 2017, (i.e., the date of publication of the Preliminary Determinations).

¹⁹ Notification of ITC Final Determinations.

Notification to Interested Parties

This notice constitutes the antidumping orders with respect to wire rod from Italy, Korea, Spain, Turkey, and the United Kingdom, pursuant to section 736(a) of the Act. Interested parties can find a list of antidumping duty orders currently in effect at http://enforcement.trade.gov/stats/iastats1.html.

These amended final determinations and orders are issued and published in accordance with sections 735(e) and 736(a) of the Act and 19 CFR 351.211(b) and 351.224(e) and (f).

Dated: May 16, 2018.
Gary Taverman,
Deputy Assistant Secretary for Antidumping and Countervailing Duty Operations, performing the non-exclusive functions and duties of the Assistant Secretary for Enforcement and Compliance.

Appendix

Scope of the Orders

The products covered by these orders are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products under these orders are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of these proceedings is dispositive.

[FR Doc. 2018-10879 Filed 5-18-18; 8:45 am]

BILLING CODE 3510-DS-P